DEPARTMENT OF THE TREASURY

Office of Foreign Assets Control

Additional Designations, Foreign Narcotics Kingpin Designation Act

AGENCY: Office of Foreign Assets Control, Treasury.

ACTION: Notice.

SUMMARY: The U.S. Department of the Treasury's Office of Foreign Assets Control (OFAC) is publishing the names of six individuals and fifteen entities whose property and interests in property have been blocked pursuant to the Foreign Narcotics Kingpin Designation Act (Kingpin Act) (21 U.S.C. 1901-1908, 8 U.S.C. 1182).

DATES: The designation by the Acting Director of OFAC of the six individuals and 15 entities identified in this notice pursuant to section 805(b) of the Kingpin Act are effective on August 19, 2015.

FOR FURTHER INFORMATION CONTACT: Assistant Director, Sanctions Compliance & Evaluation, Office of Foreign Assets Control, U.S. Department of the Treasury, Washington, DC 20220, Tel: (202) 622-2490.

SUPPLEMENTARY INFORMATION:

Electronic and Facsimile Availability

This document and additional information concerning OFAC are available on OFAC's Web site at http://www.treasury.gov/ofac or via facsimile through a 24-hour fax-on-demand service at (202) 622-0077.

Background

The Kingpin Act became law on December 3, 1999. The Kingpin Act establishes a program targeting the activities of significant foreign narcotics traffickers and their organizations on a worldwide basis. It provides a statutory framework for the imposition of sanctions against significant foreign narcotics traffickers and their organizations on a worldwide basis, with the objective of denying their businesses and agents access to the U.S. financial system and the benefits of trade and transactions involving U.S. companies and individuals.

The Kingpin Act blocks all property and interests in property, subject to U.S. jurisdiction, owned or controlled by significant foreign narcotics traffickers as identified by the President. In addition, the Secretary of the Treasury, in consultation with the Attorney General, the Director of the Central Intelligence Agency, the Director of the Federal Bureau of Investigation, the Administrator of the Drug Enforcement Administration, the Secretary of Defense, the Secretary of State, and the Secretary of Homeland Security, may designate and block the property and interests in property, subject to U.S. jurisdiction, of persons who are found to be: (1) Materially assisting in, or providing financial or technological support for or to, or providing goods or services in support of, the international narcotics trafficking activities of a person designated pursuant to the Kingpin Act; (2) owned, controlled, or directed by, or acting for or on behalf of, a person designated pursuant to the Kingpin Act; or (3) playing a significant role in international narcotics trafficking.

On August 19, 2015, the Acting Director of OFAC designated the following six individuals and 15 entities whose property and interests in property are blocked pursuant to section 805(b) of the Kingpin Act.

Individuals:

1. AMARAL AREVALO, Wendy Dalaithy, Asuncion 747 Inter 301, Guadalajara, Jalisco 44660, Mexico; Calle 16 de Septiembre No. 21, Gral Manuel Avila Camacho, Naucalpan, Estado de Mexico 53910, Mexico; DOB 11 Jul 1980; POB Guadalajara, Jalisco, Mexico; R.F.C. AAAW800711FN9 (Mexico); C.U.R.P. AAAW800711MJCMRN05 (Mexico) (individual) [SDNTK] (Linked To: HD COLLECTION, S.A. DE C.V.; Linked To: HOTELITO DESCONOCIDO; Linked To: W&G ARQUITECTOS, S.A. DE C.V.). Designated for materially assisting in, or providing support for or to, or providing goods or services in support of, the international narcotics trafficking activities of the LOS CUINIS DRUG TRAFFICKING ORGANIZATION and/or acting for or on behalf of the LOS CUINIS DRUG TRAFFICKING ORGANIZATION and therefore meets the statutory criteria for designation as a Specially Designated Narcotics Trafficker (SDNT) pursuant to sections 805(b)(2) and/or (3) of the Kingpin Act, 21 U.S.C. 1904(b)(2) and/or (3).

2. CAMACHO CAZARES, Jeniffer Beaney (a.k.a. CAMACHO CAZARES, Jennifer Beaney; a.k.a. CAMACHO CAZAREZ, Jeniffer Beaney), Sendero De Los Olmos 110, Zapopan, Jalisco 45129, Mexico; 4850 ch de la Cote-Saint-Luc, Montreal, Quebec H3W 2H2, Canada; DOB 01 Feb 1979; POB Ahome, Sinaloa, Mexico; C.U.R.P. CACJ790201MSLMZN03 (Mexico) (individual) [SDNTK] (Linked To: AG & CARLON, S.A. DE C.V.; Linked To: GRUPO DIJEMA, S.A. DE C.V.). Designated for materially assisting in, or providing support for or to, or providing goods or services in support of, the international narcotics trafficking activities of Abigael GONZALEZ VALENCIA and/or acting for or on behalf of Abigael GONZALEZ VALENCIA and therefore meets the statutory criteria for designation as a SDNT pursuant to sections 805(b)(2) and/or (3) of the Kingpin Act, 21 U.S.C. 1904(b)(2) and/or (3).

3. MARQUEZ GALLEGOS, Ma Elena (a.k.a. MARQUEZ GALLEGOS, Maria Elena), Albino Aranda 3525, Guadalajara, Jalisco 44690, Mexico; Pablo Casals # 240-24, Col. Prados Providencia, Guadalajara, Jalisco 44680, Mexico; DOB 15 Mar 1965; POB Santa Maria de los Angeles, Jalisco, Mexico; C.U.R.P. MAGE650315MJCRLL03 (Mexico) (individual) [SDNTK] (Linked To: DILAVA; Linked To: GRUPO DIJEMA, S.A. DE C.V.). Designated for acting for or on behalf of GRUPO DIJEMA, S.A. DE C.V. and therefore meets the statutory criteria for designation as a SDNT pursuant to section 805(b)(3) of the Kingpin Act, 21 U.S.C. 1904(b)(3).

4. SANCHEZ CARLON, Diana Maria, Calle Ricardo Palma 2814, Colonia Prados Providencia, Guadalajara, Jalisco, Mexico; DOB 11 Feb 1979; POB Ahome, Sinaloa, Mexico; R.F.C. SACD-790211-KC2 (Mexico); C.U.R.P. SACD790211MSLNRN04 (Mexico) (individual) [SDNTK] (Linked To: AG & CARLON, S.A. DE C.V.; Linked To: AHOME REAL ESTATE, S.A. DE C.V.; Linked To: GRUPO DIJEMA, S.A. DE C.V.; Linked To: CONSULTORIA INTEGRAL LA FUENTE, SOCIEDAD CIVIL). Designated for materially assisting in, or providing support for or to, or providing goods or services in support of, the international narcotics trafficking activities of the Abigael GONZALEZ VALENCIA and/or acting for or on behalf of Abigael GONZALEZ VALENCIA and therefore meets the statutory criteria for designation as a SDNT pursuant to sections 805(b)(2) and/or (3) of the Kingpin Act, 21 U.S.C. 1904(b)(2) and/or (3).

5. SANCHEZ CARLON, Silvia Romina, Calle Alberta No. 2166, Fraccionamiento Los Colomos, Guadalajara, Jalisco, Mexico; Av. Balam Kanche Mza. 30, Lote 002, Condominio Playa Car Fase II, Playa del Carmen, Quintana Roo 77710, Mexico; DOB 22 Dec 1986; POB Ahome, Sinaloa, Mexico; R.F.C. SACS-861222-PH0 (Mexico); C.U.R.P. SACS861222MSLNRL04 (Mexico) (individual) [SDNTK] (Linked To: AHOME REAL ESTATE, S.A. DE C.V.; Linked To: CONSULTORIA INTEGRAL LA FUENTE, SOCIEDAD CIVIL; Linked To: INTERCORP LEGOCA, S.A. DE C.V.; Linked To: LA FIRMA MIRANDA, S.A. DE C.V.; Linked To: XAMAN HA CENTER). Designated for materially assisting in, or providing support for or to, or providing goods or services in support of, the international narcotics trafficking activities of the Abigael GONZALEZ VALENCIA and/or acting for or on behalf of Abigael GONZALEZ VALENCIA and therefore meets the statutory criteria for designation as a SDNT pursuant to sections 805(b)(2) and/or (3) of the Kingpin Act, 21 U.S.C. 1904(b)(2) and/or (3).

6. TORRES GONZALEZ, Fernando, Blvd. Puerta de Hierro # 5210, Piso 8-C, Puerta de Hierro, Zapopan, Jalisco 45116, Mexico; Calle Aldama 548, Interior 3, Tepatitlan de Morelos, Jalisco, Mexico; Calle Guadalupe 676, Fraccionamiento Guadalupe, Tepatitlan de Morelos, Jalisco, Mexico; Guayaquil numero 2600, Colonia Providencia, Guadalajara, Jalisco, Mexico; DOB 04 Jul 1970; POB Tepatitlan de Morelos, Jalisco, Mexico; C.U.R.P. TOGF700704HJCRNR06 (Mexico) (individual) [SDNTK] (Linked To: CIRCULO COMERCIAL TOTAL DE PRODUCTOS, S.A. DE C.V.; Linked To: HD COLLECTION, S.A. DE C.V.; Linked To: HOTELITO DESCONOCIDO; Linked To: W&G ARQUITECTOS, S.A. DE C.V.). Designated for materially assisting in, or providing support for or to, or providing goods or services in support of, the international narcotics trafficking activities of the LOS CUINIS DRUG TRAFFICKING ORGANIZATION and/or acting for or on behalf of the LOS CUINIS DRUG TRAFFICKING ORGANIZATION and therefore meets the statutory criteria for designation as a SDNT pursuant to sections 805(b)(2) and/or (3) of the Kingpin Act, 21 U.S.C. 1904(b)(2) and/or (3).

Entities

1. AG & CARLON, S.A. DE C.V., Diag. Hernan Cortes No. 29, Vallarta San Lucas, Guadalajara, Jalisco 44690, Mexico; R.F.C. AAC100303FP1 (Mexico) [SDNTK]. Designated for being owned, controlled or directed by, or acting for or on behalf of, Diana Maria SANCHEZ CARLON and/or Jeniffer Beaney CAMACHO CAZARES and therefore meets the statutory criteria for designation as a SDNT pursuant to section 805(b)(3) of the Kingpin Act, 21 U.S.C. 1904(b)(3).

2. AHOME REAL ESTATE, S.A. DE C.V., Alberta No. 2166, Colomos Providencia, Guadalajara, Jalisco 44660, Mexico; Albino Aranda # 3525, Colonia Rinconada Santa Rita, Guadalajara, Jalisco, Mexico; R.F.C. ARE0906295S0 (Mexico) [SDNTK]. Designated for being controlled or directed by, or acting for or on behalf of, Abigael GONZALEZ VALENCIA, Diana Maria SANCHEZ CARLON, and/or Jeniffer Beaney CAMACHO CAZARES and therefore meets the statutory criteria for designation as a SDNT pursuant to section 805(b)(3) of the Kingpin Act, 21 U.S.C. 1904(b)(3).

3. ARENAS DE LORETO, Pedro Moreno 1421, Col. Americana, Guadalajara, Jalisco 44160, Mexico; Playon de Mismaloya s/n, La Cruz de Loreto, Tomatlan, Jalisco 48460, Mexico; Web site www.arenasdeloreto.com [SDNTK]. Designated for being controlled or directed by, or acting for or on behalf of, the LOS CUINIS DRUG TRAFFICKING ORGANIZATION and/or HOTELITO DESCONOCIDO and therefore meets the statutory criteria for designation as a SDNT pursuant to section 805(b)(3) of the Kingpin Act, 21 U.S.C. 1904(b)(3).

4. BRIC INMOBILIARIA, Naciones Unidas # 6875, local 8a, Fracc. Vista del Tule, Zapopan, Jalisco, Mexico; Web site www.bricinmobiliaria.com [SDNTK]. Designated for being controlled or directed by, or acting for or on behalf of, Abigael GONZALEZ VALENCIA and therefore meets the statutory criteria for designation as a SDNT pursuant to section 805(b)(3) of the Kingpin Act, 21 U.S.C. 1904(b)(3).

5. CIRCULO COMERCIAL TOTAL DE PRODUCTOS, S.A. DE C.V., Blvd. Puerta de Hierro No. 5210, Puerta de Hierro, Zapopan, Jalisco 45116, Mexico; R.F.C. CCT060531FQ1 (Mexico) [SDNTK]. Designated for being controlled or directed by, or acting for or on behalf of, the LOS CUINIS DRUG TRAFFICKING ORGANIZATION and/or Fernando TORRES GONZALEZ and therefore meets the statutory criteria for designation as a SDNT pursuant to section 805(b)(3) of the Kingpin Act, 21 U.S.C. 1904(b)(3).

6. CONSULTORIA INTEGRAL LA FUENTE, SOCIEDAD CIVIL, Zapopan, Jalisco, Mexico; Folio Mercantil No. 26736 (Mexico) [SDNTK]. Designated for being controlled or directed by, or acting for or on behalf of, Diana Maria SANCHEZ CARLON and/or Silvia Romina SANCHEZ CARLON and therefore meets the statutory criteria for designation as a SDNT pursuant to section 805(b)(3) of the Kingpin Act, 21 U.S.C. 1904(b)(3).

7. DILAVA, Pablo Casals # 240-24, Col. Prados Providencia, Guadalajara, Jalisco 44680, Mexico; Torre Medica San Javier, Consultorio 307, Quebec 631, Col. Providencia, Guadalajara, Jalisco, Mexico; Web site http://esteticavaginal.com.mx [SDNTK]. Designated for being controlled or directed by, or acting for or on behalf of, Ma Elena MARQUEZ GALLEGOS and therefore meets the statutory criteria for designation as a SDNT pursuant to section 805(b)(3) of the Kingpin Act, 21 U.S.C. 1904(b)(3).

8. GRUPO DIJEMA, S.A. DE C.V., Guadalajara, Jalisco, Mexico; Folio Mercantil No. 46092-1 (Mexico) [SDNTK]. Designated for being controlled or directed by, or acting for or on behalf of, Diana Maria SANCHEZ CARLON and/or Jeniffer Beaney CAMACHO CAZARES and therefore meets the statutory criteria for designation as a SDNT pursuant to sections 805(b)(3) of the Kingpin Act, 21 U.S.C. 1904(b)(3).

9. HD COLLECTION, S.A. DE C.V., Boulevard Puerta de Hierro # 5210 8C, Col. Puerta de Hierro, Zapopan, Jalisco 45116, Mexico; R.F.C. HCO0911242K8 (Mexico) [SDNTK]. Designated for being controlled or directed by, or acting for or on behalf of, the LOS CUINIS DRUG TRAFFICKING ORGANIZATION, Fernando TORRES GONZALEZ, and/or Wendy Dalaithy AMARAL AREVALO and therefore meets the statutory criteria for designation as a SDNT pursuant to section 805(b)(3) of the Kingpin Act, 21 U.S.C. 1904(b)(3).

10. HOTELITO DESCONOCIDO, Playon de Mismaloya s/n, La Cruz de Loreto, Tomatlan, Jalisco 48460, Mexico; Blvd. Puerta de Hierro # 5210, Piso 8, Col. Puerta de Hierro, Zapopan, Jalisco 45116, Mexico; Web site www.hotelito.com [SDNTK]. Designated for materially assisting in, or providing support for or to, or providing goods or services in support of, the international narcotics trafficking activities of the LOS CUINIS DRUG TRAFFICKING ORGANIZATION, and/or acting for or on behalf of the LOS CUINIS DRUG TRAFFICKING ORGANIZATION, HD COLLECTION, S.A. DE C.V., W&G ARQUITECTOS, S.A. DE C.V., Fernando TORRES GONZALEZ, and/or Wendy Dalaithy AMARAL AREVALO and therefore meets the statutory criteria for designation as a SDNT pursuant to sections 805(b)(2) and/or (3) of the Kingpin Act, 21 U.S.C. 1904(b)(2) and/or (3).

11. INTERCORP LEGOCA, S.A. DE C.V., Avenida Fco I Madero 643, Colonia Guadalajara Centro, Guadalajara, Jalisco 44100, Mexico; Folio Mercantil No. 65256 (Mexico) [SDNTK]. Designated for being controlled or directed by, or acting for or on behalf of, Silvia Romina SANCHEZ CARLON and therefore meets the statutory criteria for designation as a SDNT pursuant to section 805(b)(3) of the Kingpin Act, 21 U.S.C. 1904(b)(3).

12. LA FIRMA MIRANDA, S.A. DE C.V., Guadalajara, Jalisco, Mexico; Folio Mercantil No. 47864 (Mexico); alt. Folio Mercantil No. 65256 (Mexico) [SDNTK]. Designated for being controlled or directed by, or acting for or on behalf of, Silvia Romina SANCHEZ CARLON and therefore meets the statutory criteria for designation as a SDNT pursuant to section 805(b)(3) of the Kingpin Act, 21 U.S.C. 1904(b)(3).

13. PLAZA LOS TULES, Av. Naciones Unidas # 6875, Fracc. Vista del Tule, Zapopan, Jalisco, Mexico; Av. Naciones Unidas # 6895, Fracc. Vista del Tule, Zapopan, Jalisco, Mexico [SDNTK]. Designated for being controlled or directed by, or acting for or on behalf of, Abigael GONZALEZ VALENCIA and/or Diana Maria SANCHEZ CARLON and therefore meets the statutory criteria for designation as a SDNT pursuant to section 805(b)(3) of the Kingpin Act, 21 U.S.C. 1904(b)(3).

14. W&G ARQUITECTOS, S.A. DE C.V., 16 de Septiembre No. 21, Col. Manuel Avila Camacho, Naucalpan, Edo. de Mex., Mexico; R.F.C. WAR050401H27 (Mexico) [SDNTK]. Designated for being controlled or directed by, or acting for or on behalf of, the LOS CUINIS DRUG TRAFFICKING ORGANIZATION, Fernando TORRES GONZALEZ, and/or Wendy Dalaithy AMARAL AREVALO and therefore meets the statutory criteria for designation as a SDNT pursuant to section 805(b)(3) of the Kingpin Act, 21 U.S.C. 1904(b)(3).

15. XAMAN HA CENTER (a.k.a. PLAZA XAMAN HA), Av. Balam Kanche Mza. 30, Lote 002, Condominio Playa Car Fase II, Playa del Carmen, Quintana Roo 77710, Mexico; Carretera Cancun-Tulum, Playacar, Solidaridad, Playa del Carmen, Quintana Roo 77717, Mexico; Avenida 50, Playa del Carmen, Quintana Roo, Mexico [SDNTK]. Designated for being controlled or directed by, or acting for or on behalf of, Abigael GONZALEZ VALENCIA, Diana Maria SANCHEZ CARLON, and/or Silvia Romina SANCHEZ CARLON and therefore meets the statutory criteria for designation as a SDNT pursuant to section 805(b)(3) of the Kingpin Act, 21 U.S.C. 1904(b)(3).

Dated: August 19, 2015.
Andrea M. Gacki,
Acting Director, Office of Foreign Assets Control.

[FR Doc. 2015-20829 Filed 8-21-15; 8:45 am]

BILLING CODE 4810-AL-P